DEPARTMENT OF DEFENSE

Department of the Navy

Meeting of the U.S. Naval Academy Board of Visitors

AGENCY: Department of the Navy, DoD.

ACTION: Notice of partially closed meeting.

SUMMARY: The U.S. Naval Academy Board of Visitors will meet to make such inquiry, as the Board shall deem necessary, into the state of morale and discipline, the curriculum, instruction, physical equipment, fiscal affairs, and academic methods of the Naval Academy. The meeting will include discussions of personnel issues at the Naval Academy, the disclosure of which would constitute a clearly unwarranted invasion of personal privacy. The executive session of this meeting will be closed to the public.

DATES: The open session of the meeting will be held on Monday, March 5, 2007, from 8 a.m. to 10:30 a.m. The closed executive session will be held from 10:30 a.m. to 12:15 p.m., directly after the open session.

ADDRESSES: The meeting will be held at the United States Naval Academy, Alumni Hall, Building 675, Bo Cappedge Room #238, Annapolis, MD.

FOR FURTHER INFORMATION CONTACT: Major Craig C. Clemans, Executive Secretary to the Board of Visitors, Office of the Superintendent, U.S. Naval Academy, 121 Blake Road, Annapolis, MD 21402-5000, telephone 410-293-1503.

SUPPLEMENTARY INFORMATION: This notice of meeting is provided per the Federal Advisory Committee Act (5 U.S.C. App. 2). The executive session of the meeting will consist of discussions of personnel issues at the Naval Academy and internal Board of Visitors matters. Discussion of such information cannot be adequately segregated from other topics, which precludes opening the executive session of this meeting to the public. Accordingly, the Secretary of the Navy has determined in writing that the meeting shall be partially closed to the public because it will be concerned with matters listed in section 552b(c)(2), (5), (6), (7), and (9) of title 5, United States Code.

Dated: February 8, 2007.
M.A. Harvison,
Lieutenant Commander, U.S. Navy, Office of the Judge Advocate General, Federal Register Liaison Officer.

[FR Doc. E7-2451 Filed 2-12-07; 8:45 am]

BILLING CODE 3810-FF-P